DEPARTMENT OF HOMELAND SECURITY

Bureau of Customs and Border Protection

[CBP Dec. 06-40]

Re-Accreditation and Re-Approval SGS North America, Inc., Deer Park, TX as a Commercial Gauger and Laboratory

AGENCY: Bureau of Customs and Border Protection, Department of Homeland Security.

ACTION: Notice of re-approval of SGS North America, Inc., of Deer Park, Texas, as a commercial gauger and laboratory.

SUMMARY: Notice is hereby given that, pursuant to 19 CFR 151.I2 and 151.I3, SGS North America, Inc., 2759 Battleground Road, Deer Park, Texas 77536, has been re-approved to gauge petroleum and petroleum products, organic chemicals and vegetable oils, and to test petroleum and petroleum products for customs purposes, in accordance with the provisions of 19 CFR 151.12 and 151.13.

DATES: The re-approval of SGS North America, Inc., as a commercial gauger and laboratory became effective on January 4, 2005. The next triennial inspection date will be scheduled for January 2008.

FOR FURTHER INFORMATION CONTACT: Eugene J. Bondoc, Ph.D, or Randall Breaux, Laboratories and Scientific Services, Bureau of Customs and Border Protection, 1300 Pennsylvania Avenue, NW., Suite 1500N, Washington, DC 20229, 202-344-1060.

Dated: December 19, 2006.
Ira S. Reese,
Executive Director, Laboratories and Scientific Services.

[FR Doc. E6-21928 Filed 12-21-06; 8:45 am]

BILLING CODE 9111-14-P